DEPARTMENT OF ENERGY

Federal Energy Regulatory Commission

[Project No. 15249-002]

Lewis Ridge Pumped Storage, LLC; Notice of Scoping Period Requesting Comments on Environmental Issues for the Proposed Lewis Ridge Pumped Storage Project

Take notice that the following hydroelectric application has been filed with the Commission and is available for public inspection.

a. Type of Application: Original Major License.

b. Project No.: 15249-002.

c. Date Filed: June 13, 2025.

d. Applicant: Lewis Ridge Pumped Storage, LLC (LRPS).

e. Name of Project: Lewis Ridge Pumped Storage Project.

f. Location: Near the towns of Blackmont, Tejay, Balkan, and Callaway, in Bell County, Kentucky.

g. Filed Pursuant to: Federal Power Act, 16 U.S.C. 791(a)-825(r).

h. Applicant Contact: Sandy Slayton, Rye Development, 1455 SW Broadway Street, Suite 290, Portland Oregon 97201; (503) 341-1425; email: sandy@ryedevelopment.com.

i. FERC Contact: Sarah Salazar at (202) 502-6863, or sarah.salazar@ferc.gov.

j. The staff of the Federal Energy Regulatory Commission (FERC or Commission) will prepare an environmental document that will discuss the environmental effects of relicensing the Lewis Ridge Pumped Storage Project. The Commission will use this environmental document in its decision-making process to determine whether to issue a license for the project.

k. This notice announces the opening of the scoping process the Commission will use to gather input from the public and interested agencies regarding the project. This notice is intended to advise all participants as to the potential scope of the National Environmental Policy Act (NEPA) document and to seek additional information pertinent to this analysis. Commission staff does not intend to issue a separate scoping document.

As part of the NEPA review process, the Commission takes into account concerns the public may have about proposals and the environmental effects that could result from its action whenever it considers the issuance of a hydropower license. This gathering of public input is referred to as “scoping.” The main goal of the scoping process is to focus the analysis in the environmental document on the important environmental issues.

l. Scoping Comments: By this notice, the Commission requests written public comments on the scope of issues to address in the environmental document. To ensure that your comments are timely and properly recorded, please submit your comments so that the Commission receives them in Washington, DC on or before 5:00 p.m. Eastern Time on December 23, 2025.

Comments should focus on the potential environmental effects and reasonable alternatives. Your input will help the Commission staff determine what issues they need to evaluate in the environmental document. Commission staff will consider all written comments during the preparation of the environmental document.

The Commission strongly encourages electronic filing. Please file scoping comments using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Lewis Ridge Pumped Storage Project (P-15249-002).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

m. The application is not ready for environmental analysis at this time. On October 24, 2025 the Commission issued a request for additional information with a response due from the applicant by December 8, 2025.

n. Project Description: The proposed project boundary would enclose about 148 acres of privately owned land, primarily owned by Asher Land and Mineral, LLLP, on which it previously conducted surface and underground coal mining. About 16 additional parcels of privately owned property would be included in the project boundary, primarily along the transmission line and water intake conduit extending from the Cumberland River to the lower reservoir. These lands are identified in Exhibit G of the application (Project Boundary Drawing).

The proposed Lewis Ridge Project would consist of a 48.2-acre upper reservoir created by an 8,241-foot-long, 50-foot-high rocky earth-fill dam with an integrated emergency overflow spillway passing flows to the Pound Mill Branch and into Puckett Creek. The upper reservoir would have an active storage of about 2,602 acre-feet between normal maximum elevation 2,150 feet and normal minimum elevation 2,076 feet. An intake in the upper reservoir would pass flows to a 3,134-foot-long, 16-foot-diameter aboveground penstock. The penstock would connect to a powerhouse located 267 feet below ground, containing two 154-megawatt (MW) reversible pump-turbines with a total rated capacity of 308 MW. Flows from the powerhouse would pass through two 249-foot-long, 12-foot-diameter draft tubes to a 110-foot-long water intake located at the lower reservoir. The 51.6-acre lower reservoir would be created by a 1,120-foot-long, 138-foot-high earth-fill dam and have an integrated emergency overflow spillway passing flows to the Cumberland River. The lower reservoir would have a gross storage of 3,486 acre-feet and active storage of about 2,602 acre-feet between normal maximum elevation 1,134 feet and normal minimum elevation 1,034 feet.

A permanent intake would be located on the Cumberland River to provide initial fill flows and maintenance flows. The intake would consist of 6 screened inlets which connect to a removable/mobile pumping station. Flows from the pumping station would pass through three parallel 4,724-foot-long, 24-inch-diameter buried pipelines which would direct flows to a stilling basin at the lower reservoir.

LRPS would develop about 7.1 miles of permanent roads for project access and maintenance, and 4 miles of temporary roads for construction. LRPS would use two disposal sites to deposit excess spoil material (excavated soil and rocks). After construction is completed, these sites would be seeded and revegetated.

The project would include a 2.5-mile-long, 161-kilovolt overhead transmission line and two switching stations, connecting the project powerhouse to the existing Pineville-Harlan #1 transmission line. Under normal operation, the project would have the capacity to produce about 717,000 megawatt hours (MWh) of peak energy annually.

Project Operation

The Lewis Ridge Pumped Storage Project would use flows from the Cumberland River and Tom Fork River for the initial fill and periodic recharge of the reservoirs. The project would require about 2,808 acre-feet of water for the initial fill and 149 acre-feet annually to replace water that would be lost to evaporation and seepage. All flows in the Tom Fork River above 2.8 cubic feet per second (cfs) would be available for maintenance flows and initial fill. About 10% of the mean monthly flow in the Cumberland River would be used for initial fill and to supplement Tom Fork River flows for maintenance when needed.

The lower reservoir would inundate part of the 1.8-mile-long Tom Fork River. The lower reservoir dam would include a low-level outlet, which would be used for emergency releases, as well as providing approximately 2.8 cfs (the estimated mean annual flow) to the lower section of the Tom Fork River.

The proposed project would pump water from the lower reservoir to the upper reservoir during periods of low electrical demand (i.e., off-peak energy, likely during nights and weekends) and generate energy by passing the water from the upper to the lower reservoir through the generating units during periods of high electrical demand (i.e., peak energy, likely during weekdays). Water surface elevations in the upper reservoir would fluctuate about 74 feet under normal operation. The water surface elevation in the lower reservoir would fluctuate 100 feet. The project would produce 266 MW of energy for an 8-hour generation cycle and take 8.8 hours to return water from the lower reservoir to the upper reservoir. The return cycle would require 340 MW of power. The proposed project would be operated to maximize benefits to the electrical grid while minimizing evaporation from both reservoirs.

Under an original license, in addition to constructing, operating, and maintaining the project as described above, LRPS would implement the following measures: (1) additional geo-technical analyses; (2) an Erosion and Sediment Control Plan; (3) a Water Quality Monitoring Plan; (4) a Stormwater Pollution Prevention Plan; (5) a Hazardous Substances Spill Prevention and Cleanup Plan; (6) a Groundwater Protection Plan; (7) fish exclusion measures; (8) mussel relocation; (9) a Wildlife Management Plan; (10) a Vegetation Management Plan; and (11) a Historic Properties Management Plan.

A copy of the application, with details of the proposed project, can be viewed on the Commission's website at https://www.ferc.gov using the “eLibrary” link. Enter the project's docket number excluding the last three digits in the docket number field to access the document (P-15249). For assistance, contact FERC at FERCOnlineSupport@ferc.gov, (866) 208-3676 (toll free), or (202) 502-8659 (TTY).

o. NEPA Process and the Environmental Document: Any environmental document issued by the Commission will discuss effects that could occur as a result of the project's licensing under the relevant general resource areas, such as:

• geology and soils;

• aquatic resources;

• terrestrial resources;

• threatened and endangered species;

• recreation, land use, and aesthetic resources;

• cultural resources; and

• developmental resources.

Commission staff will also evaluate reasonable alternatives to the proposed project or portions of the project and make recommendations on how to lessen or avoid effects on the various resource areas. Your comments will help Commission staff identify and focus on the issues that might have an effect on the human environment and potentially eliminate others from further discussion in the environmental document.

Following this scoping period, Commission staff will determine whether to prepare an Environmental Assessment (EA) or an Environmental Impact Statement (EIS). The EA or EIS will present Commission staff's independent analysis of the issues. If Commission staff prepares an EA, a Notice of Intent to Prepare an Environmental Assessment will be issued. The EA may be issued for an allotted public comment period. The Commission would consider timely comments on the EA before making its decision regarding the proposed project. If Commission staff prepares an EIS, a Notice of Intent to Prepare an Environmental Impact Statement will be issued. Staff will then prepare a draft EIS which will be issued for public comment. Commission staff will consider all timely comments received during the comment period on the draft EIS and revise the document, as necessary, before issuing a final EIS. Any EA or draft and final EIS will be available in electronic format in the public record through eLibrary. If eSubscribed, you will receive instant email notification when the environmental document is issued (see paragraph (q) of this notice for instructions on using eSubscription).

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. This notice is being distributed to the Commission's official mailing list for the project and any additional entities on the applicant's distribution list. You can access the Commission's official mailing list for this project at https://ferconline.ferc.gov/MailListLOR.aspx?Type=MailList&ListVar=P-15249. If you want to receive future mailings for the project and are not included on the Commission's official mailing list, or if you wish to be removed from the Commission's official mailing list, please send your request by email to FERCOnlineSupport@ferc.gov. In lieu of an email request, you may submit a paper request. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All written or emailed requests must specify your wish to be added to or removed from the mailing list, and must clearly identify the following on the first page: Lewis Ridge Pumped Storage Project No. 15249-002.

Additionally, the Commission offers a free service called eSubscription, which makes it easy to stay informed of all issuances and submittals regarding the dockets/projects to which you subscribe. These instant email notifications are the fastest way to receive notification and provide a link to the document files which can reduce the amount of time you spend researching proceedings. Go to https://www.ferc.gov/ferc-online/overview to register for eSubscription.

In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-15249). For assistance, contact FERC at FERCOnlineSupport@ferc.gov, (866) 208-3676 (toll free), or (202) 502-8659 (TTY).

Dated: October 24, 2025.
Debbie-Anne A. Reese,
Secretary.

[FR Doc. 2025-20926 Filed 11-24-25; 8:45 am]

BILLING CODE 6717-01-P